DEPARTMENT OF THE INTERIOR

Bureau of Land Management

[NM-920-1310-08; TXNM 118211]

Notice of Proposed Reinstatement of Terminated Oil and Gas Lease TXNM 118211

AGENCY: Bureau of Land Management, Interior.

ACTION: Notice of Reinstatement of Terminated Oil and Gas Lease.

SUMMARY: Under the Class II provisions of Title IV, Public Law 97-451, the Bureau of Land Management (BLM) received a petition for reinstatement of oil and gas lease TXNM 118211 from the lessee, Woodward Development LLC, for lands in Houston County, Texas. The petition was filed on time and was accompanied by all the rentals due since the date the lease terminated under the law.

FOR FURTHER INFORMATION CONTACT: Lourdes B. Ortiz, BLM, New Mexico State Office, at (505) 438-7586.

SUPPLEMENTARY INFORMATION: No valid lease has been issued that affects the lands. The lessee agrees to new lease terms for rentals and royalties of $10.00 per acre or fraction thereof, per year, and 16⅔ percent, respectively. The lessee paid the required $500.00 administrative fee for the reinstatement of the lease and $166.00 cost for publishing this Notice in the Federal Register. The lessee met all the requirements for reinstatement of the lease as set out in Sections 31(d) and (e) of the Mineral Leasing Act of 1920 (30 U.S.C. 188). We are proposing to reinstate lease TXNM 118211, effective the date of termination, June 1, 2008, under the original terms and conditions of the lease and the increased rental and royalty rates cited above.

Before including your address, phone number, e-mail address, or other personal identifying information in your comment, you should be aware that your entire comment—including your personal identifying information—may be made publicly available at any time. While you can ask us in your comment to withhold your personal identifying information from public review, we cannot guarantee that we will be able to do so.

Dated: September 9, 2008.
Lourdes B. Ortiz,
Land Law Examiner, Fluids Adjudication Team.

[FR Doc. E8-21417 Filed 9-12-08; 8:45 am]

BILLING CODE 4310-FB-P